DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: Current Population Survey, February 2004 Cell Phone Use Supplement.

Form Number(s): CPS-263(L), BC-1428.

Agency Approval Number: None.

Type of Request: New collection.

Burden: 630 hours.

Number of Respondents: 37,800.

Average Hours Per Response: 1 minute.

Needs and Uses: The U.S. Census Bureau requests OMB approval of the collection of information pertaining cell phone usage to be conducted as a supplement to the February 2004 Current Population Survey (CPS). The CPS is collected monthly by the U.S. Census Bureau for the Bureau of Labor Statistics (BLS).

Federal statistical agencies conduct telephone surveys more often than in the past. This trend is a result of the rising costs of in-person surveys as well as improvements in telephone sampling methodology (list-assisted designs). Government agencies, however, must pay particular attention to coverage issues that could affect the samples' representation of the universe. One of the coverage issues in telephone surveys, as they are currently done, is the failure to include households that only have cell phone service. While this is a small population at this point, we know it is growing. Furthermore, the majority of households have both regular landline telephones plugged into the wall and cell phone service, but we do not know how they use their phones. It is possible they get most of their calls on a cell phone and only use the landline telephone to take messages or connect computers and fax machines. For these reasons we need good estimates of the size of the population with different types of telephone service. The data obtained on the demographic characteristics of those households will allow us to evaluate the level of undercoverage and its possible effect on estimates.

The information will be used by survey methodologists in both the public and private sector to further evaluate telephone survey designs and to develop better methods of sampling.

Affected Public: Individuals or households.

Frequency: One-time.

Respondent's Obligation: Voluntary.

Legal Authority: Title 13 U.S.C., Section 182 and Title 29 U.S.C., Sections 1-9.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: November 14, 2003.
Madeleine Clayton,
Management Analyst, Office of the Chief Information Officer.

[FR Doc. 03-28938 Filed 11-18-03; 8:45 am]

BILLING CODE 3510-07-P